FEDERAL COMMUNICATIONS COMMISSION

[OMB 3060-1238; FR ID 305095]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before September 29, 2025. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-1238.

Title: First Amendment to Nationwide Programmatic Agreement for the Collocation of Wireless Antennas.

Form Number: Not applicable.

Type of Review: Extension of an approved collection.

Respondents: Business or other for-profit entities, not-for-profit institutions, and State, local, or Tribal governments.

Number of Respondents and Responses: 65 respondents; 510 responses.

Estimated Time per Response: 1 hour-5 hours.

Frequency of Response: Third party disclosure reporting requirement.

Obligation to Respond: Required to obtain or retain benefits. Statutory authority for this information collection is contained in Sections 1, 2, 4(i), 7, 301, 303, 309, and 332 of the Communications Act of 1934, as amended, 47 U.S.C. 151, 152, 154(i), 157, 301, 303, 309, 332, and Section 106 of the National Historic Preservation Act of 1966, 54 U.S.C. 306108.

Total Annual Burden: 1,913 hours.

Total Annual Cost: $54,880.

Needs and Uses: The Commission will submit this information collection for approval after the comment period to obtain the full three-year clearance from the Office of Management and Budget (OMB). The Commission is requesting OMB approval for disclosure requirements pertaining to the First Amendment to Nationwide Programmatic Agreement for the Collocation of Wireless Antennas (First Amendment) to address the review of deployments of small wireless antennas and associated equipment under Section 106 of the National Historic Preservation Act (NHPA) (54 U.S.C. 306108 (formerly codified at 16 U.S.C. 470f). The FCC, the Advisory Council on Historic Preservation (Council), and the National Conference of State Historic Preservation Officers (NCSHPO) amended the Nationwide Programmatic Agreement for the Collocation of Wireless Antennas (Collocation Agreement) to account for the limited potential of small wireless antennas and associated equipment, including Distributed Antenna Systems (DAS) and small cell facilities, to affect historic properties. The Collocation Agreement addresses historic preservation review for collocations on existing towers, buildings, and other non-tower structures. Under the Collocation Agreement, most antenna collocations on existing structures are excluded from Section 106 historic preservation review, with a few exceptions that must meet the criteria defined in the Collocation Agreement designed to address potentially problematic situations. On August 3, 2016, the Commission's Wireless Telecommunications Bureau, Council, and NCSHPO finalized and executed the First Amendment to the Collocation Agreement, to tailor the Section 106 process for small wireless deployments by excluding deployments that have a minimal potential for adverse effects on historic properties.

The following are the information collection requirements in connection with the amended provisions of Appendix B of Part 1 of the Commission's rules (47 CFR Pt.1, App. B):

• Stipulation VII.C of the amended Collocation Agreement provides that proposals to mount a small antenna on a traffic control structure (e.g., traffic light) or on a light pole, lamp post, or other structure whose primary purpose is to provide public lighting, and where the structure is located inside of or within 250 feet of the boundary of a historic district, are generally subject to review through the Section 106 process. These proposed collocations will be excluded from such review on a case-by-case basis, if (1) the collocation licensee or the owner of the structure has not received written or electronic notification that the Commission is in receipt of a complaint from a member of the public, an Indian Tribe, a SHPO or the Council, that the collocation has an adverse effect on one or more historic properties; and (2) the structure is not historic (not a designated National Historic Landmark or a property listed in or eligible for listing in the National Register of Historic Places) or considered a contributing or compatible element within the historic district, under certain procedures. These procedures require that applicant must request in writing that the SHPO concur with the applicant's determination that the structure is not a contributing or compatible element within the historic district, and the applicant's written request must specify the traffic control structure, light pole, or lamp post on which the applicant proposes to collocate and explain why the structure is not a contributing element based on the age and type of structure, as well as other relevant factors. The SHPO has thirty days from receipt of such written notice to inform the applicant whether it disagrees with the applicant's determination that the structure is not a contributing or compatible element within the historic district. If within the thirty-day period, the SHPO informs the applicant that the structure is a contributing element or compatible element within the historic district or that the applicant has not provided sufficient information for a determination, the applicant may not deploy its facilities on that structure without completing the Section 106 review process. If, within the thirty day period, the SHPO either informs the applicant that the structure is not a contributing or compatible element within the historic district, or the SHPO fails to respond to the applicant within the thirty-day period, the applicant has no further Section 106 review obligations, provided that the collocation meets the certain volumetric and ground disturbance provisions.

The First Amendment to the Collocation Agreement established new exclusions from the Section 106 review process for physically small deployments like DAS and small cells, fulfilling a directive in the Commission's Infrastructure Report and Order, 80 FR 1238, Jan. 8, 2015, to further streamline review of these installations. These exclusions will continue to reduce the cost, time, and burden associated with deploying small facilities in many settings and provide opportunities to increase densification at low cost and with very little impact on historic properties.

Facilitating these deployments thus directly advances deployment of 5G service in communities across the country.

Federal Communications Commission.
Marlene Dortch,
Secretary.

[FR Doc. 2025-14251 Filed 7-28-25; 8:45 am]

BILLING CODE 6712-01-P